DEPARTMENT OF TRANSPORTATION

Federal Highway Administration

Environmental Impact Statement: Will and Kankakee Counties, IL and Lake County, IN

AGENCY: Federal Highway Administration (FHWA), DOT.

ACTION: Notice of Intent.

SUMMARY: The FHWA is issuing this notice to advise the public that a Tier Two Environmental Impact Statement will be prepared for the Illiana Corridor in Will and Kankakee Counties, Illinois and Lake County, Indiana.

FOR FURTHER INFORMATION CONTACT: J. Michael Bowen, P.E., Acting Division Administrator, Federal Highway Administration, 3250 Executive Park Drive, Springfield, Illinois 62703, Phone: (217) 492-4600. John Fortmann, P.E., Deputy Director of Highways, Region One Engineer, Illinois Department of Transportation, 201 West Center Court, Schaumburg, Illinois 60196, Phone: (847) 705-4000. James A. Earl, II, P.E., Project Manager, Indiana Department of Transportation, 100 North Senate Avenue, IGCN 642, Indianapolis, Indiana 46204, Phone: (317) 232-2072.

SUPPLEMENTARY INFORMATION: The FHWA, in cooperation with the Illinois Department of Transportation (IDOT) and the Indiana Department of Transportation (INDOT), will prepare a Tier Two Environmental Impact Statement (EIS) for the Illiana Corridor. The study area is an approximately 2,000 foot wide, 47-mile long east-west oriented corridor with a western terminus at I-55 just north of the City of Wilmington in Illinois and an eastern terminus at I-65 approximately 3 miles north of State Route 2 in Indiana. The Tier Two EIS will present further detail on a range of alternatives within the selected corridor identified in Tier One, an evaluation of impacts of the alternatives, and actions for mitigating project impacts to environmental resources. In general, the range of alternatives considered in a Tier Two study will be confined to the selected corridor. However, the flexibility will exist to consider alternatives with minor excursions outside the selected corridor to avoid impacts within the selected corridor not anticipated in the Tier One EIS, or to address context sensitive design issues in a way that does not materially increase overall impacts.

The primary environmental resources that may be affected are: residential properties, agricultural land, floodplains, wetlands, and sensitive wildlife species. This project is being developed using the Context Sensitive Solutions policies of the Illinois and Indiana Departments of Transportation and will strive to achieve sustainable design concepts. Alternatives to be evaluated will include (1) taking no action and (2) evaluating alternatives within the corridor that was selected in Tier One, including consideration of multiple alignment or design options within the selected corridor, financing options, and construction sequencing options.

As part of the EIS process, a scoping meeting for obtaining input from federal and state resource and regulatory agencies will be held on February 22, 2013. The scoping meeting will discuss the level of detail and methodologies to be used in the Tier Two EIS, as well as addressing the continuation of the bi-state agency coordination process, and will be conducted interactively on February 22, 2013 at multiple locations including Chicago and Springfield, Illinois and Indianapolis, Indiana. For details regarding these locations, Mr. J. Michael Bowen may be contacted at (217) 492-4600. A Tier Two Stakeholder Involvement Plan (SIP), which meets the requirements of a coordination plan, will be developed to ensure that a full range of issues related to the Tier Two studies are identified and addressed. The SIP provides meaningful opportunities for all stakeholders to participate in defining transportation issues and solutions for the study area. The web site established for this project (http://illianacorridor.org/) is one element of the public involvement program.

Comments or questions concerning this proposed action and the Tier Two EIS are invited from all interested parties and should be directed to the FHWA at the address provided above. The Tier Two Draft EIS will be available for public and agency review after its publication. A public hearing will be held during the public comment period for the Draft EIS. Public notice will be given of the time and place of public meetings and hearings.

The Tier Two EIS will conclude with a Record of Decision identifying a selected alignment for the transportation facility.

(Catalog of Federal Domestic Assistance Program Number 20.205, Highway Research, Planning and Construction. The regulations implementing Executive Order 12372 regarding intergovernmental consultation on Federal programs and activities apply to this program).

Issued on: February 7, 2013.
J. Michael Bowen,
Acting Division Administrator, Federal Highway Administration, Springfield, Illinois.

[FR Doc. 2013-03289 Filed 2-12-13; 8:45 am]

BILLING CODE 4910-22-P